OFFICE OF THE UNITED STATES TRADE REPRESENTATIVE

Senior Executive Service Performance Review Board Members

AGENCY: Office of the United States Trade Representative.

ACTION: Notice.

SUMMARY: The Office of the United States Trade Representative (USTR) is publishing the names of the members selected to serve on its Senior Executive Service Performance Review Board (PRB). This notice supersedes all previous PRB membership notices.

FOR FURTHER INFORMATION CONTACT: Ron Nerida, Human Capital Specialist, Office of Human Capital and Services, at (202) 395-7360 or RNerida@ustr.eop.gov.

SUPPLEMENTARY INFORMATION: Provisions of the Civil Service Reform Act of 1978, as amended (5 U.S.C. 4314(c)(1)-(5)), require USTR to establish a PRB to review and evaluate the initial appraisal of a senior executive's performance by the supervisor, and make recommendations regarding performance ratings to the United States Trade Representative or his designee. The Act (5 U.S.C. 4314(c)(4)) requires USTR to publish the PRB membership in the Federal Register. The following individuals have been selected to serve on USTR's PRB:

Chair: Lewis Karesh, Assistant U.S. Trade Representative for Trade and Labor.

Member: Barbara Weisel, Assistant U.S. Trade Representative for Southeast Asia and the Pacific.

Member: Sharon Bomer Lauritsen, Assistant U.S. Trade Representative for Agricultural Affairs.

Member: John Melle, Assistant U.S. Trade Representative for Western Hemisphere.

Member: Bill Jackson, Assistant U.S. Trade Representative for Textile Affairs.

Fred Ames,
Assistant U.S. Trade Representative for Administration, Office of the United States Trade Representative.

[FR Doc. 2017-19689 Filed 9-15-17; 8:45 am]

BILLING CODE 3290-F7-P